DEPARTMENT OF HOUSING AND URBAN DEVELOPMENT

[Docket No. FR-5835-C-05]

60-Day Notice of Proposed Information Collection: Service Coordinators in Multifamily Housing

AGENCY: Office of the Assistant Secretary for Housing—Federal Housing Commissioner, HUD.

ACTION: Correction, Notice.

SUMMARY: This document corrects the document HUD published on April 14, 2015 at 80 FR 20005. HUD is seeking approval from the Office of Management and Budget (OMB) for the information collection described below. In accordance with the Paperwork Reduction Act, HUD is requesting comment from all interested parties on the proposed collection of information. The purpose of this notice is to allow for 60 days of public comment.

DATES: Comments Due Date: June 29, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: For copies of the proposed forms and other available information contact Carissa Janis, Office of Asset Management and Portfolio Oversight, Department of Housing and Urban Development, 451 7th Street SW., Washington, DC 20410 by email Carissa.l.janis@hud.gov telephone at 202-402-2487. (This is not a toll-free number.) Persons with hearing or speech impairments may access this number through TTY by calling the toll-free Federal Relay Service at (800) 877-8339.

Copies of available documents submitted to OMB may be obtained from Ms. Pollard.

SUPPLEMENTARY INFORMATION:

This notice informs the public that HUD is seeking approval from OMB for the information collection described in section A.

A. Overview of Information Collection

Title of Information Collection: Service Coordinators in Multifamily Housing.

OMB Approval Number: 2502-0447.

Type of Request: Revision of a currently approved collection.

Form Numbers: HUD-2530, HUD-92456, HUD-92456-G, HUD-50080-SCMF, HUD-91186, HUD-91186-A, SF-424, SF-424-Supp, HUD-2880, SF-LLL, SF-425.

Description of the need for the information and proposed use:

This request seeks approval for the following items:

1. Revision of form HUD-50080-SCMF;

2. Elimination of the standard form (SF) 425 “Federal Financial Report” and form HUD-96010 “Logic Model” for Service Coordinator in Multifamily Housing grant recipients, and

3. Grant application intake submission requirements for the Upcoming Notice of Funding availability (NOFA) for the Seniors and Services Demonstration program. The eligible applicant pool for this demonstration will be aligned with the Service Coordinators in Multifamily Housing program.

As a result, this request will reduce the number of respondents, responses per annum, frequency of Responses, and total Estimated Burden hours.

The collection of information is necessary to ensure efficient and proper use of funds for eligible activities. Without this information, HUD staff cannot assess the need for funds and effectively monitor grantees' program performance and administration. In addition, the information collection will assist applicants in better determining their need for funds. The information will also enable grantees to more effectively evaluate their program performance; account for funds, and maintain appropriate program records.

Grant funds are taken to pay costs previously incurred and are obtained through use of the electronic Line of Credit Control System (eLOCCS). Grantees are required to draw down from eLOCCS monthly or quarterly.

Grantees will submit the revised form HUD-50080-SCMF on a semi-annual basis. Grantees will complete one worksheet per draw down. Each worksheet will list every expense incurred during that month or quarter. Grantees will be required to maintain detailed expense documentation in their files. HUD may request copies of such documentation if additional program review is warranted.

The data reported will allow HUD staff to track expenses and drawdown of funds for eligible costs at intervals within the grant term. The modified form and submission schedule are designed to reduce burden and collect valid and relevant data.

HUD proposes to substitute the revised form HUD-50080-SCMF for the SF-425, “Federal Financial Report.” The SF-425 does not provide HUD with any data that is not already available in LOCCS or that will be reported in the revised HUD-50080-SCMF. The revised HUD-50080-SCMF provides the most essential information HUD needs to determine whether federal funds have been used properly.

Respondents: Multifamily Housing assisted housing owners.

Estimated Number of Respondents: 7,770.

Estimated Number of Responses: 13,790.

Frequency of Response: Semi-annually to annually.

Average Hours per Response: 10.2.

Total Estimated Burden hours: 61,060.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

Authority: Section 3507 of the Paperwork Reduction Act of 1995, 44 U.S.C. chapter 35.

Dated: April 22, 2015.
Laura M. Marin,
Associate General Deputy Assistant Secretary for Housing-Associate Deputy Federal Housing Commissioner.

[FR Doc. 2015-09773 Filed 4-27-15; 8:45 am]

BILLING CODE 4210-67-P